DEPARTMENT OF DEFENSE

Department of the Army; Corps of Engineers

Notice of an Extension of the Comment Period for the Final Environmental Impact Statement To Consider Issuance of a Department of the Army Permit Pursuant to Section 404 of the Clean Water Act for Mingo Logan Coal Company's (Mingo Logan) Proposal To Construct and Operate Spruce No. 1 Mine in Logan County, WV

AGENCY: Department of the Army, U.S. Army Corps of Engineers, DoD.

ACTION: Notice extending comment period.

SUMMARY: The U.S. Army Corps of Engineers (USACE) Huntington District announces the extension of the public comment period for the proposed Spruce No. 1 Mine Final Environmental Impact Statement (FEIS).

DATES: Submit comments by November 22, 2006.

ADDRESSES: Send written comments and suggestions concerning this proposal to Mrs. Teresa Spagna, Regulatory Project Manager, Regulatory Branch, CELRH-OF-FS, U.S. Army Corps of Engineers, Huntington District, 502 8th Street, Huntington, WV 25701. Requests to be placed on the mailing list should be sent to this address.

FOR FURTHER INFORMATION CONTACT: Mrs. Teresa Spagna, Regulatory Project Manager at (304) 399-5710 or electronic mail at Teresa.D.Spagna@Lrh01.usace.army.mil.

SUPPLEMENTARY INFORMATION: On September 22, 2006, the U.S. Army Corps of Engineers (USACE) Huntington District published a notice in the Federal Register (71 FR 55441) announcing the availability of the FEIS. Based on requests from members of an environmental group, the USACE is extending the comment period until November 22, 2006.

Copies of the FEIS may be obtained by contacting USACE Huntington District Regulatory Branch at (304) 399-5210 or (304) 399-5710.

Copies of the FEIS are also available for inspection at the locations identified below:

(1) Blair Post Office, P.O. Box 9998, Blair, WV 25022-9998.

(2) Kanawha County Public Library, 123 Capital Street, Charleston, WV 25301.

(3) Logan County Public Library, 16 Wildcat Way, Logan, WV 25601.

Brenda S. Bowen,
Army Federal Register Liaison Officer.

[FR Doc. 06-8938 Filed 10-26-06; 8:45 am]

BILLING CODE 3710-GM-M